FEDERAL COMMUNICATIONS COMMISSION

Technological Advisory Council

ACTION: Notice of meeting.

SUMMARY: In accordance with the Federal Advisory Committee Act, Public Law 92-463, as amended, this notice advises interested persons of the first meeting of the Technological Advisory Council (“Council”) under its new charter, which will be held at the Federal Communications Commission in Washington, DC.

DATES: Wednesday, June 13, 2001 at 10:00 a.m.

ADDRESSES: Federal Communications Commission, 445 12th St. S.W., Room TW-C305 Washington DC 20554.

SUPPLEMENTARY INFORMATION: The Council was established by the Federal Communications Commission to provide a means by which a diverse array of recognized technical experts from a variety of interests such as industry, academia, government, citizens groups, etc., can provide advice to the FCC on innovation in the communications industry. The purpose of this first meeting under the Council's new charter will be to organize the Council's efforts to fulfill its responsibilities under the charter. Members of the general public may attend the meeting. The Federal Communications Commission will attempt to accommodate as many persons as possible. Admittance, however, will be limited to the seating available. Unless so requested by the Council's Chair, there will be no public oral participation, but the public may submit written comments to Julius Knapp, the Council's Designated Federal Officer, before the meeting. Julius Knapp's email address is jknapp@fcc.gov. His U.S. mail address is Julius Knapp, Deputy Chief, Office of Engineering and Technology, Federal Communications Commission, 445 12th Street, SW, Washington, DC 20554. Continuously accelerating technological changes in telecommunications design, manufacturing, and deployment require that the Commission be promptly informed of those changes to fulfill its statutory mandate effectively. Notice of this meeting was delayed because of the large number of exceptionally well qualified applicants who were nominated for membership on the Council, and the need to insure that the composition of the Council would best achieve the objectives that have been set for this Council promptly. Future meetings of the Council have been scheduled for September 20, 2001; December 5, 2001; March 20, 2002; June 12, 2002; September 18, 2002; and December 4, 2002. Additional meetings may be scheduled as necessary. Future meetings will address the topics that the Council has been asked to consider by the Commission. All meetings will be held in the Commission meeting room, Room TW-C-305, 445 12th Street, S.W., Washington, D.C. Each meeting will begin at 10:00 A.M. and continue until the business before the Council on that date has been completed. For additional information contact Kent Nilsson at knilsson@fcc.gov or 202-418-0845.

Federal Communications Commission
Magalie Roman Salas,
Secretary.

[FR Doc. 01-14662 Filed 6-11-01; 8:45 am]

BILLING CODE 6712-01-P